DEPARTMENT OF TRANSPORTATION

Office of the Secretary

[Docket No. DOT-OST-2020-0107]

Senior Executive Service Performance Review Boards Membership

AGENCY: Office of the Secretary, Department of Transportation (DOT).

ACTION: Notice of Performance Review Board (PRB) appointments.

SUMMARY: DOT published the names of the persons selected to serve on Departmental PRBs.

FOR FURTHER INFORMATION CONTACT: Lisa M. Williams, Director, Departmental Office of Human Resource Management (202) 366-4088.

SUPPLEMENTARY INFORMATION: The persons named below may be selected to serve on one or more Departmental PRBs as required by 5 U.S.C. 4314(c)(4).

Issued in Washington, DC, on September 17, 2020.
Keith E. Washington,
Deputy Assistant Secretary for Administration.

Department of Transportation

Federal Highway Administration

ALONZI, ACHILLE

ARNOLD, ROBERT E

BAKER, SHANA V

BEZIO, BRIAN R

BIONDI, EMILY CHRISTINE

BRIGGS, VALERIE ANNETTE

CAMIRE, ADRIENNE E

CHRISTIAN, JAMES C

CRONIN, BRIAN P

CURTIS, STEPHANIE

ETCHEN, ALEXANDER J

EVANS, MONIQUE REDWINE

EVERETT, THOMAS D

FINFROCK, ARLAN E JR

FLEURY, NICOLLE M

FOUCH, BRIAN J

GATTI, JONATHAN D

GIGLIOTTI, DANA

GRIFFITH, MICHAEL S

HARTMANN, JOSEPH L

HESS, TIMOTHY G.

HUGHES, CAITLIN GWYNNE

JENSEN, GARY ALAN

KALLA, HARI

KEHRLI, MARK R

KNOPP, MARTIN C

KRISHNAMOORTI, MALATHI

LEONARD, KENNETH

LEWIS, DAVID A

LUCERO, AMY C

MAMMANO, VINCENT P

MARQUIS, RICHARD J

OSBORN, PETER W

PETTY, KENNETH II

REGAL, GERALDINE K

RICHARDSON, CHRISTOPHER S

RICHTER, CHERYL ALLEN

RICO, IRENE

RIDGEWAY, MARY F

RUSNAK, ALLISON B

SCHAFTLEIN, SHARI M

SHEPHERD, GLORIA MORGAN

SIGEL, BETHANY RENEE

STEPHANOS, PETER J

TURNER, DERRELL E

WALKER, CHERYL J

WINTER, DAVID R

WRIGHT, LESLIE JANICE

ZIMMERMAN, MARY BETH

Federal Motor Carrier Safety Administration

DECK, JAMES WILEY

DELORENZO, JOSEPH P

EILERS-BOWSER, HEATHER AN

FROMM, CHARLES J

GRAYDON, AMY HEATHER

HERNANDEZ, SCOTT

HORAN, CHARLES A III

HUG, CARRIE A

JONES, DARIN G

KEANE, THOMAS P

KELLY, TAFT D

MINOR, LARRY W

PIDUGU, PAVANKUMAR

RIDDLE, KENNETH H.

RUBAN, DARRELL L

SCHREIBMAN, JACK L

SENTEF, JOSEPH

VAN STEENBURG, JOHN W

Federal Railroad Administration

ALEXY, JOHN KARL

ALLAHYAR, MARYAM

CIPRIANO, PETER

HAYWARD-WILLIAMS, CAROLYN

JAMES, DAVID WILLIAM

JORTLAND, BRETT ANDREW

KENDALL, QUINTIN C

LESTINGI, MICHAEL W.

LONG, MICHAEL T

NISSENBAUM, PAUL

PATTERSON, MARK A

RENNERT, JAMIE P.

REYES-ALICEA, REBECCA

REYNOLDS, GERALD ARTHUR

RIGGS, TAMELA LYNN

Federal Transit Administration

AHMAD, MOKHTEE

ALLEN, REGINALD E

BRENNAN, JOHN J III

BROOKINS, KELLEY

BUCHANAN, HENRIKA J.

BUTLER, PETER S

DALTON-KUMINS, SELENE FAE

GARCIA CREWS, THERESA

GEHRKE, LINDA M

GOODMAN, STEPHEN C

JAMES, FELICIA LANISE

LYSSY, GAIL C

NIFOSI, DANA C.

ROBINSON, BRUCE A

TAYLOR, YVETTE G

TELLIS, RAYMOND S

TERWILLIGER, CINDY E

TUCCILLO, ROBERT J

WELBES, MATTHEW J

WILLIAMS, KIMBERLY JANE

Maritime Administration

BALLARD, JOHN R

BALZANO, RICHARD A

BROHL, HELEN A

BUONO, JOACHIM

BURNETT, DOUGLAS R

DAVIS, DELIA P

DUNLAP, SUSAN LYNN

FISHER, ANTHONY JR

HARRINGTON, DOUGLAS M

KUMAR, SHASHI N

MC MAHON, CHRISTOPHER J

MOSCHKIN, LYDIA

PAAPE, WILLIAM

PIXA, RAND R.

TOKARSKI, KEVIN M

National Highway Traffic Safety Administration

BLINCOE, LAWRENCE J

CHEN, CHOU-LIN

COLLINS, ANNE L

DANIELSON, JACK H.

DOHERTY, JANE H

DONALDSON, K JOHN

GIUSEPPE, JEFFREY M

HATIPOGLU, CEM

HINES, DAVID M

JOHNSON, TIM J

KOLLY, JOSEPH M

KOLODZIEJ, KERRY E

MARSHALL, JOHN W

MATHEKE, OTTO G III

MORRISON, JONATHAN C

OWENS, JAMES C JR

PARKER, CYNTHIA D

PFISTER, JAMIE DURHAM

POSTEN, RAYMOND R

RIDELLA, STEPHEN A

RITTER, ROBERT G

RUSHTON, SEAN G

SRINIVASAN, NANDA N

SUMMERS, LORI K

VALLESE, JULIETTE M.

Office of the Secretary of Transportation

ABRAHAM, JULIE

AIZCORBE, CHRISTINA G

ALBRIGHT, JACK G

AUDET, ANNE H

AUGUSTINE, JOHN E

AYLWARD, ANNE D

BELLOCCHI, LUKE P

BOHNERT, ROGER V

CALLENDER, DUANE A

CARLSON, TERENCE W

CHAVEZ, RICHARD M

CHULUMOVICH, MADELINE M

COGGINS, COLLEEN P

CONNORS, SUSAN M

CONRAD, JESSICA MARIE

COTE, GREGORY D

COTE, RYAN ERNEST

FARAJIAN, MORTEZA

FLEMING, GREGG G

FRASER, ROBERT J

FULTON, THOMAS FINCH

FUNK, JENNIFER S

FURCHTGOTT-ROTH, DIANA EL

GAUTREAUX, CATHY FOSTER

GEIER, PAUL M

GENERO, LAURA

HERLIHY, THOMAS W

HOMAN, TODD M

HORN, DONALD H

HU, PATRICIA S.

HURDLE, LANA T

INMAN, JAMES TODD

IRVINE, PETER D

JACKSON, RONALD A

JAMES, CHARLES E.

JOYNER, GREGORY GILBERT

KALETA, JUDITH S

KING, DANIEL E.

KNOUSE, RUTH D.

LAWRENCE, CHRISTINE A

LEFEVRE, MARIA S.

LOHRENZ, MAURA C

MACECEVIC, LISA J

MARCHESE, APRIL LYNN

MARTIN, HAROLD W III

MARTINEZ, RAYMOND PHILLIP

MCCARTNEY, ERIN P

MCKENNA, WILLIAM

MCMASTER, SEAN K B

MORGAN, DANIEL S.

MORRIS, WILLIS A.

MOSS, JONATHAN P.

O'BERRY, DONNA

ORNDORFF, ANDREW R

PAIEWONSKY, LUISA M

PETROSINOWOOLVERTON, MARI

POPKIN, STEPHEN M

REID, PARKER ANDREW

REINKE, ANNE CHETTLE

SCHMITT, ROLF R

SHORT, DAVID E

SIMPSON, JOAN

SMITH, JARED LAINE

SMITH, LOREN A. JR

SMITH, WILLIE H

SOMERVILLE, TAMARA S.

SPRAGUE, MARY G.

SZAKAL, KEITH J

SZATMARY, RONALD ALLEN JR

TIMOTHY, DARREN P

WANG, CHEN-MING TIM

WASHINGTON, KEITH E

WILLIAMS, LISA M

WONG, EMILY MEE SAM

WONNENBERG, DAVID GLENN

WORKIE, BLANE A

ZIFF, LAURA M

Pipeline and Hazardous Materials Safety Administration

BORENER, SHERRY S

DAUGHERTY, LINDA

DAVIS, CAREY THOMAS

FARLEY, AUDREY L.

GORDON, STEPHEN N JR

MAYBERRY, ALAN K

MCMILLAN, HOWARD W

PEARCE, DRUE

QUADE, WILLIAM A III

ROBERTI, PAUL

SCHOONOVER, WILLIAM S

TAHAMTANI, MASSOUD

TSAGANOS, VASILIKI B

Saint Lawrence Seaway Development Corporation

CROOT, GARY

MIDDLEBROOK, CRAIG H

[FR Doc. 2020-21130 Filed 10-20-20; 8:45 am]

BILLING CODE 4910-9X-P